DEPARTMENT OF COMMERCE

International Trade Administration

[A-570-890]

Wooden Bedroom Furniture From the People's Republic of China: Partial Rescission of Antidumping Duty Administrative Review

AGENCY: Import Administration, International Trade Administration, Department of Commerce

DATES: Effective October 2, 2013.

FOR FURTHER INFORMATION CONTACT: Jeffrey Pedersen or Patrick O'Connor, AD/CVD Operations, Office 4, Import Administration, International Trade Administration, U.S. Department of Commerce, 14th Street and Constitution Avenue NW., Washington, DC 20230, telephone: (202) 482-2769 or (202) 482-0989, respectively.

SUPPLEMENTARY INFORMATION:

Background

On January 4, 2005, the Department of Commerce (Department) published in the Federal Register the antidumping duty order on wooden bedroom furniture from the People's Republic of China (PRC).¹ On January 3, 2013, the Department published a notice of opportunity to request an administrative review of the wooden bedroom furniture order.²

¹ See Notice of Amended Final Determination of Sales at Less Than Fair Value and Antidumping Duty Order: Wooden Bedroom Furniture From the People's Republic of China, 70 FR 329 (January 4, 2005).

² See Antidumping or Countervailing Duty Order, Finding, or Suspended Investigation; Opportunity To Request Administrative Review, 78 FR 288 (January 3, 2013).

The Department received multiple timely requests for an administrative review of the wooden bedroom furniture order and on February 28, 2013, in accordance with section 751(a) of Tariff Act of 1930, as amended (the Act), published in the Federal Register a notice of the initiation of an administrative review of that order.³ The administrative review was initiated with respect to 200 companies or groups of companies, and covers the period from January 1, 2012, through December 31, 2012. While there are a number of companies which remain under review, certain parties have timely withdrawn all review requests for a number of other companies, as discussed below.

³ See Wooden Bedroom Furniture From the People's Republic of China: Initiation of Administrative Review, 78 FR 13626 (February 28, 2013) (Initiation Notice).

Rescission of Review, in Part

Pursuant to 19 CFR 351.213(d)(1), the Department will rescind an administrative review, in whole or in part, if the party that requested the review withdraws its request within 90 days of the date of publication of the notice of initiation of the requested review. All requesting parties withdrew their respective requests for an administrative review of the entities listed in Appendix I, within 90 days of the date of publication of the Initiation Notice. The entities listed in Appendix I had a separate rate granted in the most recently completed segment of this proceeding in which they were under review. Accordingly, the Department is rescinding this review, in part, with respect to these entities, in accordance with 19 CFR 351.213(d)(1).⁴

⁴ See Appendix I.

Companies That Have Not Demonstrated Eligibility for a Separate Rate

In addition to the companies noted above, all review requests were timely withdrawn for other companies that are currently under review that either do not have a separate rate because they have never been reviewed or did not demonstrate eligibility for a separate rate in the most recently completed segment of this proceeding in which they were under review. Therefore, these companies will continue to be subject to the PRC-wide entity rate. While the requests for review of those companies were withdrawn by all parties, those withdrawn companies are part of the PRC-wide entity which could come under review in this segment of the proceeding. If the PRC-wide entity comes under review we will make a determination with respect to the PRC-wide entity at the final results. A complete list of these entities without separate rates is contained in Appendix II.

Assessment

For the entities in Appendix I for which the Department has rescinded this review and which had a separate rate granted in the most recently completed segment of this proceeding in which they were under review, the Department intends to issue appropriate assessment instructions directly to U.S. Customs and Border Protection 15 days after the publication of this notice in the Federal Register. For these entities, antidumping duties shall be assessed on period of review entries at rates equal to the cash deposit of estimated antidumping duties required at the time of entry, or withdrawal from warehouse, for consumption, in accordance with 19 CFR 351.212(c)(1)(i).

For the entities in Appendix II, which are part of the PRC-wide entity during the instant review period (i.e., have not established their eligibility for a separate rate), the Department will issue assessment instructions 15 days after publication of the final results of this review.

Notification to Importers

This notice serves as a final reminder to importers whose entries will be liquidated as a result of this rescission notice, of their responsibility under 19 CFR 351.402(f) to file a certificate regarding the reimbursement of antidumping duties prior to liquidation of the relevant entries during this review period. Failure to comply with this requirement could result in the Secretary's assumption that reimbursement of antidumping duties occurred and the subsequent assessment of double antidumping duties.

Notification Regarding Administrative Protective Orders (APOs)

This notice also serves as a reminder to parties subject to APOs of their responsibility concerning the return or destruction of proprietary information disclosed under an APO in accordance with 19 CFR 351.305(a)(3), which continues to govern business proprietary information in this segment of the proceeding. Timely written notification of the return/destruction of APO materials or conversion to judicial protective order is hereby requested. Failure to comply with the regulations and terms of an APO is a violation which is subject to sanction.

This notice is issued and published in accordance with section 777(i)(1) of the Act, and 19 CFR 351.213(d)(4).

Dated: September 25, 2013.
Christian Marsh,
Deputy Assistant Secretary for Antidumping and Countervailing Duty Operations.

Appendix I

The following companies, which were named in our Initiation Notice, had a separate rate granted in the most recently completed segment of this proceeding in which they were under review. Subsequently, interested parties timely withdrew all requests for review of these companies.

Therefore, pursuant to 19 CFR 351.213(d)(1), we are rescinding this administrative review with respect to these companies:

• Art Heritage International, Ltd., Super Art Furniture Co., Ltd., Artwork Metal & Plastic Co., Ltd., Jibson Industries Ltd., Always Loyal International

• Baigou Crafts Factory of Fengkai ⁵

⁵ While the Department stated in the Initiation Notice that this company did not have a separate rate, in the most recently completed segment of this proceeding, which was completed after publication of the Initiation Notice, the Department determined that the company was entitled to a separate rate. See Wooden Bedroom Furniture From the People's Republic of China: Final Results of Antidumping Duty Administrative Review; 2011, 78 FR 35249 (June 12, 2013) (“2011 WBF Final”).

• Changshu HTC Import & Export Co., Ltd.

• Cheng Meng Furniture (PTE) Ltd., Cheng Meng Decoration & Furniture (Suzhou) Co., Ltd.

• Dalian Huafeng Furniture Group Co., Ltd.

• Decca Furniture Ltd.

• Dongguan Hung Sheng Artware Products Co., Ltd., Coronal Enterprise Co., Ltd.

• Dongguan Kingstone Furniture Co., Ltd., Kingstone Furniture Co., Ltd.

• Dongguan Sunrise Furniture Co., Ltd., Taicang Sunrise Wood Industry Co., Ltd., Taicang Fairmount Designs Furniture Co., Ltd., Meizhou Sunrise Furniture Co., Ltd.

• Dorbest Ltd., Rui Feng Woodwork Co., Ltd. Aka Rui Feng Woodwork (Dongguan) Co., Ltd., Rui Feng Lumber Development Co., Ltd. Aka Rui Feng Lumber Development (Shenzhen) Co., Ltd.,

• Fine Furniture (Shanghai) Ltd.

• Guangzhou Maria Yee Furnishings Ltd., Pyla HK, Ltd., Maria Yee, Inc.

• Hang Hai Woodcraft's Art Factory

• Jiangmen Kinwai Furniture Decoration Co., Ltd.

• Jiangmen Kinwai International Furniture Co., Ltd.

• Jiangsu Xiangsheng Bedtime Furniture Co., Ltd.

• Jiangsu Yuexing Furniture Group Co., Ltd.

• Jiedong Lehouse Furniture Co., Ltd.

• Kunshan Summit Furniture Co., Ltd.

• Nanhai Jiantai Woodwork Co., Ltd., Fortune Glory Industrial Ltd. (H.K. Ltd.)

• Nathan International Ltd., Nathan Rattan Factory

• Passwell Corporation, Pleasant Wave Ltd.

• Perfect Line Furniture Co., Ltd.

• Prime Wood International Co., Ltd, Prime Best International Co., Ltd., Prime Best Factory, Liang Huang (Jiaxing) Enterprise Co., Ltd.

• Putian Jinggong Furniture Co., Ltd.

• Qingdao Liangmu Co., Ltd.

• Restonic (Dongguan) Furniture Ltd., Restonic Far East (Samoa) Ltd.

• Rizhao Sanmu Woodworking Co., Ltd.

• Shanghai Jian Pu Export & Import Co., Ltd.

• Shenzhen Forest Furniture Co., Ltd.

• Shenzhen Jiafa High Grade Furniture Co., Ltd., Golden Lion International Trading Ltd.

• Shenzhen New Fudu Furniture Co., Ltd.

• Shenzhen Wonderful Furniture Co., Ltd.

• Shing Mark Enterprise Co., Ltd., Carven Industries Limited (BVI), Carven Industries Limited (Hk), Dongguan Zhenxin Furniture Co., Ltd., Dongguan Yongpeng Furniture Co., Ltd.

• Starwood Industries Ltd.

• Sunforce Furniture (Hui-Yang) Co., Ltd., Sun Fung Wooden Factory, Sun Fung Co., Shin Feng Furniture Co., Ltd., Stupendous International Co., Ltd.

• Superwood Co., Ltd., Lianjiang Zongyu Art Products Co., Ltd.

• Techniwood Industries Ltd., Ningbo Furniture Industries Limited, Ningbo Hengrun Furniture Co., Ltd.

• Tradewinds Furniture Ltd., Fortune Glory Industrial Ltd. (H. K. Ltd.)

• U-Rich Furniture (Zhangzhou) Co., Ltd., U-Rich Furniture Ltd.

• Wanvog Furniture (Kunshan) Co., Ltd.

• Woodworth Wooden Industries (Dong Guan) Co., Ltd.

• Xiamen Yongquan Sci-Tech Development Co., Ltd.

• Yihua Timber Industry Co., Ltd., Guangdong Yihua Timber Industry Co., Ltd.

• Zhang Zhou Sanlong Wood Product Co., Ltd.

• Zhangjiagang Daye Hotel Furniture Co., Ltd.

• Zhangzhou Guohui Industrial & Trade Co., Ltd.

• Zhongshan Fookyik Furniture Co., Ltd.

• Zhongshan Golden King Furniture Industrial Co., Ltd.

• Zhoushan For-Strong Wood Co., Ltd.

Appendix II

The following companies, which were named in our Initiation Notice, either do not have a separate rate because they have never been reviewed or were not granted a separate rate in the most recently completed segment of this proceeding in which they were under review. Therefore, these companies will continue to be subject to the PRC-wide entity rate. Although interested parties timely withdrew all requests for review of these companies, the companies are part of the PRC-wide entity which could come under review in this segment of the proceeding. If the PRC-wide entity comes under review, we will make a determination with respect to the PRC-wide entity at the final results.

• Alexandre International Corp., Southern Art Development Ltd., Alexandre Furniture (Shenzhen) Co., Ltd., Southern Art Furniture Factory ⁶

⁶ While the Department stated in the Initiation Notice that this company had a separate rate, on June 12, 2013, the Department determined that this company was not eligible for a separate rate. See 2011 WBF Final.

• Best King International Ltd.

• Billy Wood Industrial (Dong Guan) Co., Ltd., Great Union Industrial (Dongguan) Co., Ltd., Time Faith Ltd.⁷

⁷ While the Department stated in the Initiation Notice that this company had a separate rate, on June 12, 2013, the Department determined that this company was not eligible for a separate rate. See 2011 WBF Final.

• BNBM Co., Ltd

• Brother Furniture Manufacture Co., Ltd.

• C.F. Kent Co., Inc.

• C.F. Kent Hospitality, Inc.

• Classic Furniture Global Co., Ltd.

• Creation Industries Co., Ltd.

• Der Cheng Furniture Co., Ltd.

• Der Cheng Wooden Works of Factory

• Dong Guan Golden Fortune Houseware Co., Ltd.

• Dongguan Bon Ten Furniture Co., Ltd.

• Dongguan Chunsan Wood Products Co,Ltd.

• Dongguan Creation Furniture Co., Ltd.,

• Dongguan Da Zhong Woodwork Co., Ltd.

• Dongguan Grand Style Furniture Co., Ltd.

• Dongguan Haoshun Furniture Ltd.

• Dongguan Hero Way Woodwork Co., Ltd.

• Dongguan Hua Ban Furniture Co., Ltd.

• Dongguan Huansheng Furniture Co., Ltd.⁸

⁸ While the Department stated in the Initiation Notice that this company had a separate rate, on June 12, 2013, the Department determined that this company was not eligible for a separate rate. See 2011 WBF Final.

• Dongguan Mu Si Furniture Co., Ltd.

• Dongguan New Technology Import & Export Co., Ltd.

• Dongguan Sunpower Enterprise Co., Ltd.

• Dongying Huanghekou Furniture Industry Co., Ltd.⁹

⁹ While the Department stated in the Initiation Notice that this company had a separate rate, on June 12, 2013, the Department determined that this company was not eligible for a separate rate. See 2011 WBF Final.

• Dream Rooms Furniture (Shanghai) Co., Ltd.

• Ever Spring Furniture Company Ltd.

• Fairmont Designs

• Forward Win Enterprises Co., Ltd.,

• Foshan Guanqiu Furniture Co., Ltd.

• Furnmart Ltd.

• Green River Wood (Dongguan) Ltd.

• Guangdong Sunwin Green Furniture Industry Group Co., Ltd.

• Guangming Group Wumahe Furniture Co., Ltd.

• Hainan Jong Bao Lumber Co., Ltd.¹⁰

¹⁰ While the Department stated in the Initiation Notice that this company had a separate rate, on August 27, 2012, the Department determined that this company was not eligible for a separate rate. See Wooden Bedroom Furniture From the People's Republic of China: Final Results and Final Rescission in Part, 77 FR 51754 (August 27, 2012)( 2010 WBF Final).

• Hero Way Enterprises Ltd.

• Hong Kong Da Zhi Furniture Co., Ltd.

• Hong Kong Jingbi Group.

• Huasen Furniture Co., Ltd.

• Hung Fai Wood Products Factory, Ltd.

• Hwang Ho International Holdings Limited

• Inni Furniture

• Jiangsu Weifu Group Fullhouse Furniture Mfg. Corp.

• Jibbon Enterprise Co., Ltd.¹¹

¹¹ While the Department stated in the Initiation Notice that this company had a separate rate, on August 27, 2012, the Department determined that this company was not eligible for a separate rate. See 2010 WBF Final.

• Kai Chan (Hong Kong) Enterprise Ltd.

• Kai Chan Furniture Co., Ltd.

• King Rich International, Ltd.

• King's Way Furniture Industries Co., Ltd.

• Kingsyear Ltd.

• Kuan Lin Furniture (Dong Guan) Co., Ltd.

• Kuan Lin Furniture Co., Ltd.

• Kuan Lin Furniture Factory

• Kunshan Lee Wood Product Co., Ltd.

• Leefu Wood (Dongguan) Co., Ltd.,

• Link Silver Ltd. (V.I.B.)

• Locke Furniture Factory

• Meikangchi (Nantong) Furniture Co., Ltd.

• Nantong Dongfang Orient Furniture Co., Ltd.

• Nantong Yangzi Furniture Co., Ltd.

• Nantong Yushi Furniture Co., Ltd.

• Passwell Wood Corporation

• S.Y.C. Family Enterprise Co., Ltd.

• Samso Industries Ltd.

• Shanghai Aosen Furniture Co.,Ltd

• Shanghai Fangjia Industry Co., Ltd.

• Shanghai Hospitality Product Mfg., Co., Ltd.

• Shanghai Maoji Imp And Exp Co., Ltd.¹²

¹² While the Department stated in the Initiation Notice that this company had a separate rate, on June 12, 2013, the Department determined that this company was not eligible for a separate rate. See 2011 WBF Final.

• Shanghai Sunrise Furniture Co., Ltd.

• Sheng Jing Wood Products (Beijing) Co., Ltd., Telstar Enterprises Ltd.¹³

¹³ While the Department stated in the Initiation Notice that this company had a separate rate, on June 12, 2013, the Department determined that this company was not eligible for a separate rate. See 2011 WBF Final.

• Shenzhen Xiande Furniture Factory

• Starwood Furniture Manufacturing Co., Ltd.

• Taiwan Kai Chan Co., Ltd.

• Tarzan Furniture Industries Ltd.,

• Tianjin Master Home Furniture Company

• Tradewinds International Enterprise Ltd.

• Trendex Industries Ltd.

• Wan Bao Chen Group Hong Kong Co., Ltd.

• Well Earth International Ltd.

• Winny Overseas, Ltd.

• Winny Universal Ltd.

• Xilinmen Group Co . Ltd.

• Xingli Arts & Crafts Factory of Yangchun

• Yichun Guangming Furniture Co., Ltd.

• Yongxin Industrial (Holdings) Limited

• Zhanjiang Sunwin Arts & Crafts Co., Ltd.

• Zhong Shan Fullwin Furniture Co., Ltd.

• Zhongshan Gainwell Furniture Co., Ltd.

• Zhongshan Winny Furniture Ltd.

[FR Doc. 2013-24113 Filed 10-1-13; 8:45 am]

BILLING CODE 3510-DS-P